COMMISSION ON CIVIL RIGHTS

Agenda and Notice of Public Meeting of the South Dakota Advisory Committee

Notice is hereby given, pursuant to the provisions of the rules and regulations of the U.S. Commission on Civil Rights, that a meeting of the South Dakota State Advisory Committee will convene at 1 p.m. (MST) and adjourn at 4 p.m. (MST), Wednesday, March 22, 2006, at the Holiday Inn, 100 West 8th Street, Sioux Falls. The purpose of the meeting is to provide an overview of the U.S. Commission on Civil Rights, including recent Commission activities; discuss continuing impacts of the South Dakota SAC's report, Native Americans in South Dakota: An Erosion of Confidence in the Justice System (March 2000); discuss requested report on elementary and secondary school desegregation; and planning through December 2006.

Persons desiring additional information, or planning a presentation to the Committee, should contact John F. Dulles, Director of the Rocky Mountain Regional Office, (303) 866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, February 24, 2006.
Ivy L. Davis,
Chief, Regional Programs Coordination Unit.

[FR Doc. E6-3119 Filed 3-3-06; 8:45 am]

BILLING CODE 6335-01-P